DEPARTMENT OF ENERGY

Office of Energy Efficiency and Renewable Energy

Department of Energy's Fleet Alternative Fueled Vehicle Acquisition

AGENCY: Office of Energy Efficiency and Renewable Energy, U.S. Department of Energy.

ACTION: Notice of availability of the Department of Energy's Annual Report on its alternative fueled vehicle acquisitions for Fiscal Year 2003.

SUMMARY: In compliance with the Energy Policy Act of 1992 and Executive Order 13149, this notice announces the availability of the Fiscal Year 2003 report which summarizes the U.S. Department of Energy's (DOE) compliance with the annual alternative fueled vehicle (AFV) acquisition requirement for its vehicle fleet. Additionally, this report includes data concerning DOE's efforts to reduce petroleum consumption.

ADDRESSES: U.S. Department of Energy, Office of Energy Efficiency and Renewable Energy, Office of FreedomCAR and Vehicle Technologies, EE-2G, 1000 Independence Avenue, SW., Washington, DC 20585-0121.

FOR FURTHER INFORMATION CONTACT: Shabnam Fardanesh on (202) 586-7011 or shabnam.fardanesh@ee.doe.gov.

SUPPLEMENTARY INFORMATION: The Energy Policy Act of 1992 (42 U.S.C. 13211-13219) (EPAct), as amended, and Executive Order (E.O.) 13149 (65 FR 24607, April 2000) require Federal fleets to make 75 percent of their new covered vehicle acquisitions AFVs, beginning in fiscal year 1999. In fiscal year 2003, DOE earned 650 AFV acquisition credits, exceeding the 465 credits (i.e., 75 percent of the 620 covered light-duty vehicles acquired in fiscal year 2003) required to meet the 75 percent EPAct requirement. These 650 AFV credits generated in fiscal year 2003 represent 105 percent of covered acquisitions and 140 percent compliance with the 75 percent requirement. DOE was able to earn AFV acquisition credits in excess of the 75 percent requirement and even in excess of its actual vehicle acquisitions because E.O. 13149 allows agencies to earn extra EPAct credits for the use of zero emission and dedicated AFVs, and through the use of biodiesel fuel. DOE also exceeded its AFV acquisition requirements in fiscal years 1999, 2000, 2001 and 2002, and expects a similar high level of compliance for fiscal years 2004 and 2005.

In addition to emphasizing compliance with EPAct, E.O. 13149 requires the Federal Government to exercise leadership in reducing petroleum consumption by 20 percent by fiscal year 2005 in comparison to a fiscal year 1999 baseline, through fleet fuel efficiency improvements and the use of alternative fuels and AFVs.

DOE's vehicle fleet consumed six percent less petroleum in fiscal year 2003 than in the fiscal year 1999 baseline. DOE fleets used alternative fuels 30 percent of the time in its AFVs in fiscal year 2003, and achieved an increase of three miles per gallon in its new light-duty (non-AFV) vehicle acquisitions.

Pursuant to 42 U.S.C. 13218, DOE and other covered agencies are required to submit to Congress annual reports on their AFV acquisitions. These reports must also be placed on a publicly available Web site and a notice of their availability, including the Web site address, must be published in the Federal Register.

The DOE report for fiscal year 2003 may be accessed on the DOE Vehicle Technology Federal Fleet Web site at http://www.eere.energy.gov/vehiclesandfuels/epact/federal.

Issued in Washington, DC, on December 10, 2004.
David K. Garman,
Assistant Secretary, Energy Efficiency and Renewable Energy.

[FR Doc. 04-27865 Filed 12-20-04; 8:45 am]

BILLING CODE 6450-01-P